DEPARTMENT OF STATE

[Public Notice: 12702]

Notice of Public Meeting in Preparation for International Maritime Organization (NCSR) 12 Meeting

The Department of State will conduct a public meeting at 10 a.m. on Wednesday, May 7, 2025, both in-person at Coast Guard Headquarters in Washington, DC, and via teleconference. The primary purpose of the meeting is to prepare for the twelfth session of the International Maritime Organization's (IMO) Sub-Committee on Navigation, Communication and Search and Rescue (NCSR 12) to be held in London, United Kingdom from Tuesday, May 13, 2025, to Thursday, May 22, 2025.

Members of the public may participate up to the capacity of the teleconference line, which will handle 500 participants through Microsoft Teams, or up to the seating capacity of the room if attending in-person.

The agenda items to be considered include:

—Adoption of the agenda

—Decisions of other IMO bodies

—Routeing measures and mandatory ship reporting systems

—Updates to the LRIT system

—Developments in GMDSS services, including guidelines on maritime safety information (MSI)

—Response to matters related to the ITU-R Study Groups and ITU World Radiocommunication Conference

—Development of global maritime SAR services, including harmonization of maritime and aeronautical procedures and amendments to the IAMSAR Manual

—Development of procedures and requirements for the recognition of augmentation systems in the Worldwide Radionavigation System

—Development of amendments to SOLAS chapters IV and V and performance standards and guidelines to introduce VHF Data Exchange System (VDES)

—Development of guidelines for software maintenance of shipboard navigation and communication equipment and systems

—Development of guidelines for EPIRB which implement the two-way communication service via the SAR/Galileo Return Link service as a complement to EPIRB performance standards

—Development of guidelines for the use of electronic nautical publications (ENP)

—Revision of the Performance Standards for Shipborne BeiDou Satellite Navigation System (BDS) Receiver Equipment

—Development of guidance to establish a framework for data distribution and global IP-based connectivity between shore-based facilities and ships for ECDIS S-100 products

—Validated model training courses

—Unified interpretation of provisions of IMO safety, security, environment, facilitation, liability and compensation-related conventions

—Biennial status report and provisional agenda for NCSR 13

—Election of Chair and Vice-Chair for 2026

—Any other business

—Report to the Maritime Safety Committee

Please note: The IMO may, on short notice, adjust the NCSR 12 agenda to accommodate any constraints associated with the meeting. Although no changes to the agenda are anticipated, if any are necessary, they will be provided to those who RSVP.

Those who plan to participate should contact the meeting coordinator, Mr. John Stone at John.M.Stone@uscg.mil (preferred), by phone at (206) 815-1355, or in writing at 2703 Martin Luther King Jr. Ave. SE, Stop 7418, Washington, DC 20593-7418 not later than April 23, 2025, 14 days prior to the meeting. Requests made after April 23, 2025, might not be able to be accommodated. The meeting coordinator will provide the teleconference and Microsoft Teams access information, facilitate the building security process, and requests for reasonable accommodation. Please note that due to security considerations, two valid, government issued photo identifications must be presented to gain entrance to the Douglas A. Munro Coast Guard Headquarters Building at St. Elizabeth's. This building is accessible by taxi, public transportation, and privately owned conveyance (upon advanced request).

Additional information regarding this and other IMO public meetings may be found at: https://www.dco.uscg.mil/IMO.

(Authority: 22 U.S.C. 2656 and 5 U.S.C. 552)

Leslie W. Hunt,
Coast Guard Liaison Officer, Office of Ocean and Polar Affairs, Department of State.

[FR Doc. 2025-06814 Filed 4-18-25; 8:45 am]

BILLING CODE 4710-09-P